DEPARTMENT OF AGRICULTURE

Commodity Credit Corporation

Domestic Sugar Program—2023 Cane Sugar Marketing Allotments and Cane and Beet Processor Allocations

AGENCY: Commodity Credit Corporation, USDA.

ACTION: Notice.

SUMMARY: The United States Department of Agriculture (USDA) is issuing this notice to increase the fiscal year 2023 (FY23) overall sugar marketing allotment quantity (OAQ); increase beet and State cane sugar allotments; revise company allocations to sugar beet and sugar cane processors; and reassign beet and cane sugar marketing allocations to raw cane sugar imports already anticipated. These actions apply to all domestic beet and cane sugar marketed for human consumption in the United States from October 1, 2022, through September 30, 2023.

FOR FURTHER INFORMATION CONTACT: Kent Lanclos; telephone, (202) 720-0114; or email, kent.lanclos@usda.gov. Individuals who require alternative means for communication should contact the USDA Target Center at (202) 720-2600 (voice and text telephone (TTY)) or dial 711 for Telecommunications Relay Service (both voice and text telephone users can initiate this call from any telephone).

SUPPLEMENTARY INFORMATION: On September 30, 2022, USDA announced the initial FY23 OAQ, which was established at 10,646,250 short tons, raw value, (STRV) equal to 85 percent of the estimated quantity of sugar for domestic human consumption for the fiscal year of 12,525,000 STRV as forecast in the September 2022 World Agricultural Supply and Demand Estimates report (WASDE). The Agricultural Adjustment Act of 1938 (Pub. L. 75-430) requires that 54.35 percent of the OAQ be distributed among beet processors and 45.65 percent be distributed among the sugarcane States and cane processors.

In the March 2023 WASDE release, USDA increased the FY23 estimate of sugar consumption for food use to 12,600,000 STRV. As a result, USDA is increasing the FY23 OAQ to 10,710,000 STRV. The revised beet sector allotment is 5,820,885 STRV (an increase of 34,648) and the revised cane sector allotment is 4,889,115 STRV (an increase of 29,102). The revised beet and cane sector allotments are distributed to individual processors according to statutory formulas as shown in the table below (see the column labeled “Preliminary Revised Allocation”).

In accordance with section 359e of the Agricultural Adjustment Act of 1938 (7 U.S.C. 1359ee), after evaluating each sugar beet processor's ability to market its full allocation, USDA is transferring FY23 allocations from sugar beet processors with surplus allocation to those with deficit allocation listed in the table below. USDA has also determined that domestic beet sugar supplies are inadequate to fill the FY23 beet sugar marketing allotment.

In accordance with 7 U.S.C. 1359ee(b)(2), USDA is reassigning 250,000 STRV of the deficit to raw cane sugar imports already anticipated, given the absence of any Commodity Credit Corporation (CCC) stocks of sugar. In the table below, each sugar beet processor's allocation following these changes is shown in the column labeled “Revised FY23 Allocations” and the amount of change in each processor's allocation in the column labeled “Reassigned Amount.”

In accordance with section 7 U.S.C. 1359ee(b)(1), after evaluating each sugarcane processor's ability to market its full allocation, USDA is transferring FY23 allocations from sugarcane processors with surplus allocation to those with deficit allocation in the table below. USDA has also determined that domestic cane sugar supplies are inadequate to fill the FY23 cane sugar marketing allotment.

In accordance with 7 U.S.C. 1359ee(b)(1), USDA is reassigning 500,000 STRV of the deficit to raw cane sugar imports already anticipated, given the absence of any CCC stocks of sugar. In the table, each sugarcane processor's allocation following these changes is shown in the column labeled “Revised FY23 Allocations” and the amount of change in each processor's allocation in the column labeled “Reassigned Amount.”

FY23 Revised Beet and Cane Allotments and Allocations *
[Short tons, raw value]
Distribution | Initial FY23 allocations | Allocation increase | Preliminary revised allocations | Reassigned amount | Revised FY23 allocations
Beet Sugar | 5,786,237 | 34,648 | 5,820,885 | −250,000 | 5,570,885
Cane Sugar | 4,860,013 | 29,102 | 4,889,115 | −500,000 | 4,389,115
Total OAQ | 10,646,250 | 63,750 | 10,710,000 | −750,000 | 9,960,000
Beet Processors Marketing Allocations:
Amalgamated Sugar | 1,238,877 | 7,418 | 1,246,296 | −52,558 | 1,193,737
American Crystal Sugar | 2,128,113 | 12,774 | 2,140,887 | −100,973 | 2,039,915
Michigan Sugar | 597,577 | 3,578 | 601,155 | 106,126 | 707,281
Minn-Dak Farmers Coop | 401,848 | 2,406 | 404,254 | 15,500 | 419,754
So Minn Beet Sugar | 780,958 | 4,676 | 785,634 | −135,040 | 650,595
Western Sugar | 590,415 | 3,505 | 593,919 | −78,400 | 515,519
Wyoming Sugar | 48,449 | 290 | 48,739 | −4,655 | 44,085
Total Beet Sugar | 5,786,237 | 34,648 | 5,820,885 | −250,000 | 5,570,885
State Cane Sugar Allotments:
Florida | 2,612,146 | 15,642 | 2,627,788 | −475,313 | 2,152,475
Louisiana | 2,020,789 | 12,101 | 2,032,889 | 102,107 | 2,134,997
Texas | 227,078 | 1,360 | 228,438 | −126,795 | 101,643
Total Cane Sugar | 4,860,013 | 29,102 | 4,889,115 | −500,000 | 4,389,115
Cane Processors Marketing Allocation:
Florida:
Florida Crystals | 1,075,489 | 6,440 | 1,081,929 | −309,510 | 772,420
Growers Coop | 469,887 | 2,814 | 472,700 | −66,443 | 406,257
U.S. Sugar | 1,066,770 | 6,388 | 1,073,158 | −99,360 | 973,798
Total Florida | 2,612,146 | 15,642 | 2,627,788 | −475,313 | 2,152,475
Louisiana:
LA Sugarcane Products | 1,402,896 | 8,401 | 1,411,296 | 52,636 | 1,463,932
M.A. Patout | 617,893 | 3,700 | 621,593 | 49,471 | 671,065
Total Louisiana | 2,020,789 | 12,101 | 2,032,889 | 102,107 | 2,134,997
Texas:
Rio Grande Valley | 227,078 | 1,360 | 228,438 | −126,795 | 101,643
* Numbers may not sum to row or column totals due to rounding.

These FY23 sugar marketing allotment program actions will not prevent any domestic sugarcane or sugar beet processor from marketing all of its FY23 sugar supply. USDA will closely monitor stocks, consumption, imports, and all sugar market and program variables on an ongoing basis and may make further program adjustments during FY23, if needed.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Zach Ducheneaux,
Executive Vice President, Commodity Credit Corporation.

[FR Doc. 2023-07509 Filed 4-10-23; 8:45 am]

BILLING CODE 3411-E2-P